DEPARTMENT OF THE INTERIOR

Fish and Wildlife Service

[FWS-R4-R-2008-N0150; 40136-1265-0000-S3]

Sabine National Wildlife Refuge

AGENCY: Fish and Wildlife Service, Interior.

ACTION: Notice of availability of the Final Comprehensive Conservation Plan and Finding of No Significant Impact for Sabine National Wildlife Refuge in Cameron Parish, LA.

SUMMARY: The Fish and Wildlife Service announces that a Final Comprehensive Conservation Plan (CCP) and Finding of No Significant Impact (FONSI) for Sabine National Wildlife Refuge and the East Cove Unit of Cameron Prairie National Wildlife Refuge is available for distribution. This CCP was prepared pursuant to the National Wildlife Refuge System Improvement Act of 1997, and in accordance with the National Environmental Policy Act of 1969, and describes how the refuge and the East Cove Unit of Cameron Prairie National Wildlife Refuge will be managed for the next 15 years.

ADDRESSES: A copy of the CCP/FONSI may be obtained by writing to: Mr. Donald J. Voros, Project Leader, Southwest Louisiana National Wildlife Refuge Complex, 1428 Highway 27, Bell City, Louisiana 70630. You may also access and download a copy of the CCP/FONSI from the Service's Web site address: http://southeast.fws.gov/planning.

FOR FURTHER INFORMATION CONTACT: Mr. Donald J. Voros; Telephone: 337/598-2216.

SUPPLEMENTARY INFORMATION: Sabine National Wildlife Refuge is one of four refuges that comprise the Southwest Louisiana National Wildlife Refuge Complex. It is located 8 miles south of Hackberry on State Highway 27 in Cameron Parish, Louisiana. Sabine National Wildlife Refuge was established by Executive Order 7764, dated December 6, 1937, as a refuge and breeding ground for migratory birds and other wildlife and by the Migratory Bird Conservation Act as a sanctuary for migratory birds. The refuge occupies the marshes between Calcasieu and Sabine Lakes and consists of 125,790 acres of open water and marsh grassland. It is managed to provide habitat for migratory waterfowl and other birds and to conserve and enhance coastal marshes for wildlife and fish.

Compatibility determinations for recreational freshwater sportfishing; recreational sportfishing tournaments; recreational hunting; environmental education and interpretation; wildlife observation and photography; research and monitoring; commercial alligator harvest; commercial video and photography; commercially guided wildlife viewing, photography, environmental education, and interpretation; beneficial use of dredge material; and commercially guided fishing on the East Cove Unit only are also included in the CCP.

With this notice, we finalize the CCP process for Sabine National Wildlife Refuge begun as announced in the Federal Register on January 17, 2003 (68 FR 2566). We released the Draft CCP/EA to the public, announcing and requesting comments for 30 days in a notice of availability in the Federal Register on June 29, 2007 (72 FR 35717).

The Draft CCP/EA evaluated three alternatives for managing Sabine National Wildlife Refuge over the next 15 years. The Service chose Alterative B, which will keep the refuge operational with minimal public use programs functional but at a reduced cost in the short term; the refuge was severely damaged by Hurricane Rita in September 2005, and is currently closed to most activities other than essential operations, hurricane clean-up and restoration activities, and very limited public use activities. After hurricane damages are repaired, management will increase marsh restoration, enhance fish and wildlife management, and expand public use in the long-term. For the East Cove Unit of Cameron Prairie National Wildlife Refuge, water control structures will be operated to restore preferred vegetated plant communities associated with intermediate or slightly brackish environments. The CCP discusses opportunities to improve vegetation in open-water areas by constructing terraces, assessing the need for waterfowl sanctuary, monitoring and controlling invasive plant species, and improving public fishing access. Commercially guided fishing will be permitted in this unit under special use permit only. The alternative will be the most effective one to contribute to the purpose for which the refuge was established and to the mission of the National Wildlife Refuge System. Implementation of the goals, objectives, and strategies within the CCP will allow the Service to manage the refuge to maintain and perpetuate Gulf Coast wetlands for migratory wintering waterfowl, provide for endangered plants and animals, allow appropriate and compatible wildlife-dependent recreation, and promote research on marsh and aquatic wildlife.

Authority: This notice is published under the authority of the National Wildlife Refuge System Improvement Act of 1997, Public Law 105-57.

Editorial Note: This document was received at the Office of the Federal Register on June 10, 2008.

Dated: October 30, 2007.
Cynthia K. Dohner,
Acting Regional Director.

[FR Doc. E8-13314 Filed 6-12-08; 8:45 am]

BILLING CODE 4310-55-P